DEPARTMENT OF ENERGY

Federal Energy Regulatory Commission

[Docket No. RP03-233-000]

Dauphin Island Gathering Partners; Notice of Tariff Filing

January 15, 2003.

Take notice that on January 10, 2003, Dauphin Island Gathering Partners (Dauphin Island) tendered for filing as part of its FERC Gas Tariff, First Revised Volume No. 1, First Revised Sheet No. 203, to be effective February 9, 2003.

Dauphin Island states that this filing is submitted to remove the five-year limitation from the Right of First Refusal (ROFR) matching provisions in compliance with the Order on Remand issued October 31, 2002.

Dauphin Island states that copies of the filing are being served on all participants listed on the service list in this proceeding.

Any person desiring to be heard or to protest said filing should file a motion to intervene or a protest with the Federal Energy Regulatory Commission, 888 First Street, NE., Washington, DC 20426, in accordance with sections 385.214 or 385.211 of the Commission's rules and regulations. All such motions or protests must be filed in accordance with section 154.210 of the Commission's regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. Comments, protests and interventions may be filed electronically via the Internet in lieu of paper. The Commission strongly encourages electronic filings. See 18 CFR 385.2001(a)(1)(iii) and the instructions on the Commission's Web site under the “e-Filing” link.

Comment Date: January 23, 2003.

Magalie R. Salas,
Secretary.

[FR Doc. 03-1734 Filed 1-24-03; 8:45 am]

BILLING CODE 6717-01-P